DEPARTMENT OF ENERGY

Federal Energy Regulatory Commission

Combined Notice of Filings #1

Take notice that the Commission received the following electric corporate filings:

Docket Numbers: EC21-88-000.

Applicants: KES Kingsburg, L.P.

Description: Application for Authorization Under Section 203 of the Federal Power Act of KES Kingsburg, L.P.

Filed Date: 5/5/21.

Accession Number: 20210505-5186.

Comments Due: 5 p.m. ET 5/26/21.

Take notice that the Commission received the following exempt wholesale generator filings:

Docket Numbers: EG21-140-000.

Applicants: Orangeville Energy Storage LLC.

Description: Notice of Self-Certification of Exempt Wholesale Generator Status of Orangeville Energy Storage LLC.

Filed Date: 5/4/21.

Accession Number: 20210504-5190.

Comments Due: 5 p.m. ET 5/25/21.

Take notice that the Commission received the following electric rate filings:

Docket Numbers: ER17-1214-004; ER11-3917-003.

Applicants: Mojave Solar LLC, Coso Geothermal Power Holdings, LLC.

Description: Notice of Change in Status of Coso Geothermal Power Holdings, LLC, et al.

Filed Date: 5/6/21.

Accession Number: 20210506-5048.

Comments Due: 5 p.m. ET 5/27/21.

Docket Numbers: ER12-1436-016; ER10-2742-015; ER14-153-009; ER14-154-009; ER15-1604-004; ER16-517-004; ER18-533-003; ER18-534-003; ER18-535-003; ER18-536-003; ER18-537-003; ER18-538-004; ER20-1641-002.

Applicants: Tilton Energy LLC, Dynegy Lee II, LLC, Eagle Point Power Generation LLC, Gibson City Energy Center, LLC, Grand Tower Energy Center, LLC, Lee County Generating Station, LLC, Montepelier Generating Station, LLC, Monument Generating Station, LLC, O.H. Hutchings CT, LLC, Shelby County Energy Center, LLC, Sidney, LLC, Southern Illinois Generation Company, LLC, Tait Electric Generating Station, LLC, Yankee Street, LLC.

Description: Notice of Non-Material Change in Status of Rockland Sellers.

Filed Date: 5/5/21.

Accession Number: 20210505-5185.

Comments Due: 5 p.m. ET 5/26/21.

Docket Numbers: ER19-1073-004; ER10-2460-019; ER10-2461-020; ER10-2463-019; ER10-2466-020; ER10-2895-022; ER10-2917-022; ER10-2918-023; ER10-2920-022; ER10-2921-022; ER10-2922-022; ER10-2966-022; ER10-3167-014; ER11-2201-023; ER11-2383-018; ER11-3941-020; ER11-3942-025; ER11-4029-019; ER12-1311-019; ER12-161-024; ER12-2068-019; ER12-645-025; ER12-682-020; ER13-1139-022; ER13-1346-013; ER13-1613-015; ER13-17-017; ER13-203-014; ER13-2143-015; ER14-1964-013; ER14-25-019; ER14-2630-015; ER16-287-008; ER17-482-007; ER19-1074-007; ER19-1075-007; ER19-1076-004; ER19-2429-005; ER19-529-007; ER20-1447-003; ER20-1806-003.

Applicants: Alta Wind VIII, LLC, Bear Swamp Power Company LLC, BIF II Safe Harbor Holdings, LLC, BIF III Holtwood LLC, Bishop Hill Energy LLC, Black Bear Development Holdings, LLC, Black Bear Hydro Partners, LLC, Black Bear SO, LLC, Blue Sky East, LLC, BREG Aggregator LLC, Brookfield Energy Marketing Inc., Brookfield Energy Marketing LP, Brookfield Energy Marketing US LLC, Brookfield Power Piney & Deep Creek LLC, Brookfield Renewable Energy Marketing US, Brookfield Renewable Trading and Marketing LP, Brookfield Smoky Mountain Hydropower LP, Brookfield White Pine Hydro LLC, California Ridge Wind Energy LLC, Canandaigua Power Partners, LLC, Canandaigua Power Partners II, LLC, Catalyst Old River Hydroelectric Limited Partnership, Carr Street Generating Station, L.P., Erie Boulevard Hydropower, L.P., Erie Wind, LLC, Evergreen Wind Power, LLC, Evergreen Wind Power III, LLC, Granite Reliable Power, LLC, Great Lakes Hydro America, LLC, Hawks Nest Hydro LLC, Imperial Valley Solar 1, LLC, Mesa Wind Power Corporation, Niagara Wind Power, LLC, Prairie Breeze Wind Energy LLC, Regulus Solar, LLC, Rumford Falls Hydro LLC, Safe Harbor Water Power Corporation, Stetson Holdings, LLC, Stetson Wind II, LLC, Vermont Wind, LLC, Windstar Energy, LLC.

Description: Notice of Non-Material Change in Status of Alta Wind VIII, LLC, et al.

Filed Date: 5/5/21.

Accession Number: 20210505-5191.

Comments Due: 5 p.m. ET 5/26/21.

Docket Numbers: ER21-44-002.

Applicants: Altavista Solar, LLC.

Description: Notice of Change in Status of Altavista Solar, LLC.

Filed Date: 5/5/21.

Accession Number: 20210505-5188.

Comments Due: 5 p.m. ET 5/26/21.

Docket Numbers: ER21-1006-000; ER21-1007-000.

Applicants: El Paso Electric Company.

Description: EL Paso Electric Company submits response to the Commission's March 29, 2021 letter.

Filed Date: 4/28/21.

Accession Number: 20210428-5220.

Comments Due: 5 p.m. ET 5/19/21.

Docket Numbers: ER21-1401-001.

Applicants: Northern States Power Company, a Wisconsin corporation, Northern States Power Company, a Minnesota corporation.

Description: Tariff Amendment: 2021 Interchange Agreement Annual Filing-Stay to be effective 12/31/9998.

Filed Date: 5/5/21.

Accession Number: 20210505-5179.

Comments Due: 5 p.m. ET 5/26/21.

Docket Numbers: ER21-1506-001.

Applicants: Shaw Creek Solar, LLC.

Description: Tariff Amendment: Shaw Creek Solar, LLC Amendment to the Application for MBR Authority to be effective 5/23/2021.

Filed Date: 5/5/21.

Accession Number: 20210505-5178.

Comments Due: 5 p.m. ET 5/26/21.

Docket Numbers: ER21-1752-001.

Applicants: Public Service Company of New Mexico.

Description: Tariff Amendment: Supplement to First Revised Service Agreement No. 398 to be effective 5/6/2021.

Filed Date: 5/5/21.

Accession Number: 20210505-5170.

Comments Due: 5 p.m. ET 5/26/21.

Docket Numbers: ER21-1858-000.

Applicants: Northern States Power Company, a Minnesota corporation.

Description: § 205(d) Rate Filing: CapX Brookings OMA-537-0.1.0-Filing to be effective 7/5/2021.

Filed Date: 5/5/21.

Accession Number: 20210505-5153.

Comments Due: 5 p.m. ET 5/26/21.

Docket Numbers: ER21-1859-000.

Applicants: Arizona Public Service Company.

Description: Notice of Cancellation of Rate Schedule No. 214 of Arizona Public Service Company.

Filed Date: 5/5/21.

Accession Number: 20210505-5175.

Comments Due: 5 p.m. ET 5/26/21.

Docket Numbers: ER21-1860-000.

Applicants: CenterPoint Energy Houston Electric, LLC.

Description: § 205(d) Rate Filing: TFO Interim Tariff Rate Revision to Conform with PUCT to be effective 4/30/2021.

Filed Date: 5/6/21.

Accession Number: 20210506-5023.

Comments Due: 5 p.m. ET 5/27/21.

Docket Numbers: ER21-1861-000.

Applicants: BP Energy Company.

Description: § 205(d) Rate Filing: Revised Market-Based Rate Tariff Filing to be effective 7/6/2021.

Filed Date: 5/6/21.

Accession Number: 20210506-5060.

Comments Due: 5 p.m. ET 5/27/21.

Docket Numbers: ER21-1862-000.

Applicants: Cedar Creek II, LLC.

Description: § 205(d) Rate Filing: Revised Market-Based Rate Tariff Filing to be effective 7/6/2021.

Filed Date: 5/6/21.

Accession Number: 20210506-5067.

Comments Due: 5 p.m. ET 5/27/21.

Docket Numbers: ER21-1863-000.

Applicants: Alabama Power Company.

Description: § 205(d) Rate Filing: RE Sumter (Sumter County Solar) Amended and Restated LGIA Filing to be effective 4/9/2021.

Filed Date: 5/6/21.

Accession Number: 20210506-5094.

Comments Due: 5 p.m. ET 5/27/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 6, 2021.
Debbie-Anne A. Reese,
Deputy Secretary.

[FR Doc. 2021-10007 Filed 5-11-21; 8:45 am]

BILLING CODE 6717-01-P